DEPARTMENT OF JUSTICE

Notice of Lodging of Proposed Second Amendment To Consent Decree Under the Comprehensive Environmental Response, Compensation, and Liability Act and the Resource Conservation and Recovery Act

On October 10, 2019, the Department of Justice and the State of California on behalf of the California Department of Toxic Substances Control and Toxic Substances Control Account (“DTSC”) lodged a proposed amendment (“Amendment 2”) to a Consent Decree with the United States District Court for the Central District of California (“Court”) in the matter of United States of America and State of California on behalf of the Department of Toxic Substances Control and Toxic Substances Control Account vs. Abex Aerospace et al., Civil Action No. 2:16-cv-02696 (C.D. Cal.). This Amendment 2 amends Appendices D, E, and F of the Consent Decree previously approved by the Court on March 31, 2017 (for which the Court also approved an amendment on April 5, 2018, “Amendment 1”); that Consent Decree pertains to environmental contamination at Operable Unit 2 (“OU2”) of the Omega Chemical Corporation Superfund Site (Site) in Los Angeles County, California. Amendment 2 is for the purpose of adding additional settling parties to the Consent Decree, and follows the mechanisms that the previously approved Consent Decree sets forth for adding additional settlors.

The Consent Decree resolves certain claims under Sections 106 and 107 of the Comprehensive Environmental Response, Compensation, and Liability Act, 42 U.S.C. 9606, 9607, and Section 7003 of the Resource Conservation and Recovery Act, 42 U.S.C. 6973, as well as related state law claims, in connection with environmental contamination at OU2. Amendment 2 does the following:

(a) Adds the following parties, each of which has owned or operated a facility within the commingled OU2 groundwater plume area, as Settling Cash Defendants:

• Exxon Mobil Oil Corporation, together with related entities Mobil Foundation Inc.; General Petroleum Corporation; and Mobil Oil Corporation; and

• Continental Heat Treating Inc., together with related entities Tower Industries, Inc.; Continental Development Co., L.P.; James Stull, an individual; Metallurgical Group, Inc. (formerly Smith Heat Treating, Inc.); 10643 Norwalk, LLC; The Anna A. Hathaway Revocable Trust; The Estate of Anna A. Hathaway; J Benjamin Hathaway; James G. Stull Living Trust; and James C. Stull Irrevocable Trust.

These parties are “Certain Noticed Parties” within the meaning of Paragraph 75 and Appendix G of the Consent Decree.

(b) Moves the following parties who were previously denoted as Settling Work Defendants in Appendix E of the Consent Decree to the category of Settling Cash Defendants in Appendix D of the Consent Decree: Alpha Therapeutic Corporation; American Standard, Inc.; Arlon Products Inc.; Astro Aluminum Treating Co. Inc.; Atlantic Richfield; BP Amoco Chemical Company; Gulfstream Aerospace Corporation; Hitachi Home Electronics; Howmet Aluminum Casting, Inc.; Johns Manville Celite Corporation; Kimberly Clark Worldwide Inc., Fullerton Mill; Kinder Morgan Liquids Terminals LLC; Luxfer USA Limited by British Alcan Aluminum plc; Metropolitan Water District of Southern California; NBC/Universal City Studios; Pacific Bell Telephone Company; Pfizer Inc.; Scripto-Tokai Corporation; Sempra Energy Solutions; Signet Armorlite, Inc.; Sonoco Products Company; Texaco Inc.; Texas Instruments Incorporated; The Sherwin-Williams Company; Union Oil of California; Weber Aircraft Corporation; and Yort, Inc. This is the process described in Paragraph 79 of the Consent Decree.

(c) Adds as Settling Cash Defendants two parties that had previously resolved their liability associated with the Omega Chemical Corporation facility: Kennedy-Wilson Properties and Radiant Technologies.

This Amendment 2 requires the additional settling parties in category (a) to pay $4,700,000 into Qualified Settlement Funds, as provided for in Paragraph 27(a) of the Consent Decree. The parties in category (b) are pre-existing settling parties under this Consent Decree, and their movement from the Settling Work Defendants to Settling Cash Defendants category does not require them to pay money to the United States and DTSC. The parties in category (c) are parties that have previously resolved their liability within the group of generators at the Omega Chemical Corporation facility, and are not required to pay money to the United States and DTSC.

The publication of this notice opens a period for public comment on the Consent Decree. Comments should be addressed to the Assistant Attorney General, Environment and Natural Resources Division, and should refer to United States of America and State of California on behalf of the Department of Toxic Substances Control and Toxic Substances Control Account vs. Abex Aerospace et al., D.J. Ref. No. 90-11-3-06529/10. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

As provided by RCRA, a public meeting will be held on the proposed settlement if requested in writing by fifteen (15) days after the publication date of this notice. Requests for a public meeting may be made by contacting the EPA Remedial Project Manager for OU2, Julie Sullivan, by email at sullivan.julie@epa.gov. If a public meeting is requested, information about the date and time of the meeting will be published in the local newspaper, The Whittier Daily, and will be sent to persons on the EPA Omega Superfund Site mailing list.

During the public comment period, the lodged proposed Amendment 2 and the previously approved Consent Decree may be examined and downloaded at this Justice Department website: https://www.usdoj.gov/enrd/consent-decrees.

We will provide a paper copy of the Consent Decree and the proposed Amendment upon written request and payment of reproduction costs. Please mail your request and payment to: Consent Decree Library, U.S. DOJ—ENRD, P.O. Box 7611, Washington, DC 20044-7611.

Please enclose a check or money order for $90.25 (25 cents per page reproduction cost) payable to the United States Treasury, for a paper copy of the initial Consent Decree, the previous Amendment 1, and the proposed Amendment 2. For a paper copy of the initial Consent Decree, the previous Amendment 1, and the proposed Amendment 2 without the appendices and signature pages to the initial Consent Decree, the cost is $25.25. For a paper copy of Amendment 2 only (without the initial Consent Decree or Amendment 1), together with its signature pages, the cost is $2.00.

Henry S. Friedman,
Assistant Section Chief, Environmental Enforcement Section, Environment and Natural Resources Division.

[FR Doc. 2019-22739 Filed 10-17-19; 8:45 am]

BILLING CODE 4410-15-P